DEPARTMENT OF THE INTERIOR

National Park Service

[NPS-WASO-NAGPRA-22248; PPWOCRADN0-PCU00RP14.R50000]

Notice of Inventory Completion: Phoebe A. Hearst Museum of Anthropology at the University of California, Berkeley

AGENCY: National Park Service, Interior.

ACTION: Notice.

SUMMARY: The Phoebe A. Hearst Museum of Anthropology at the University of California, Berkeley has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains should submit a written request to the University of California, Berkeley. If no additional requestors come forward, transfer of control of the human remains to the Indian tribes or Native Hawaiian organizations stated in this notice may proceed.

DATES: Representatives of any Indian tribe or Native Hawaiian organization not identified in this notice that wish to request transfer of control of these human remains should submit a written request with information in support of the request to the University California, Berkeley at the address in this notice by December 9, 2016.

ADDRESSES: Jordan Jacobs, Phoebe A. Hearst Museum of Anthropology, 103 Kroeber Hall, University of California, Berkeley, Berkeley, CA 94720-3712, telephone (510) 643-8230, email PAHMA-Repatriation@berkeley.edu.

SUPPLEMENTARY INFORMATION: Adapting the notification procedures of the Native American Graves Protection and Repatriation Act (NAGPRA), 25 U.S.C. 3003, notice is here given of the completion of an inventory of human remains and associated funerary objects in the physical custody of the Phoebe A. Hearst Museum of Anthropology, at the University of California, Berkeley. The human remains and associated funerary objects were removed from the Cardinal Site (CA-Sjo-154) in Stockton, San Joaquin County, CA.

This notice is published as part of the National Park Service's administrative responsibilities under NAGPRA, 25 U.S.C. 3003(d)(3) and 43 CFR 10.11(d). The determinations in this notice are the sole responsibility of the museum, institution, or Federal agency that has physical custody of the Native American human remains and associated funerary objects. The National Park Service is not responsible for the determinations in this notice.

Consultation

A detailed assessment of the human remains was made by the professional staff of the Phoebe A. Hearst Museum of Anthropology, at the University of California, Berkeley in consultation with the Buena Vista Rancheria of Me-Wuk Indians of California; California Valley Miwok Tribe, California; Cher-Ae Heights Indian Community of the Trinidad Rancheria, California; Chicken Ranch Rancheria of Me-Wuk Indians of California; Federated Indians of Graton Rancheria, California; Ione Band of Miwok Indians of California; Jackson Band of Miwuk Indians (previously listed as the Jackson Rancheria of Me-Wuk Indians of California); Middletown Rancheria of Pomo Indians of California; Picayune Rancheria of Chukchansi Indians of California; Santa Rosa Indian Community of the Santa Rosa Rancheria, California; Shingle Springs Band of Miwok Indians, Shingle Springs Rancheria (Verona Tract), California; Table Mountain Rancheria of California; Tule River Indian Tribe of the Tule River Reservation, California; Tuolumne Band of Me-Wuk Indians of the Tuolumne Rancheria of California; United Auburn Indian Community of the Auburn Rancheria of California; and Wilton Rancheria, California.

History and Description of the Remains

In 1976, 36 sets of human remains were removed from the Cardinal Site (CA-Sjo-154) in Stockton, San Joaquin County, CA, by Drs. Richard Hughes and James Bennyhoff. Michael Hoffman, then Curator of Human Osteology at the Lowie Museum of Anthropology, was independently contracted by Hughes and Bennyhoff to conduct analysis, and the human remains were loaned to the Lowie Museum for the duration of the study. Subsequent transfers of the human remains occurred to researchers at Colorado College and Cornell University for study. Following the studies, the human remains were transferred to the physical custody of the Phoebe A. Hearst Museum of Anthropology at the University of California, Berkeley (formerly Lowie Museum) in 1995.

The 106 associated funerary objects are 49 lots of unsorted shell, lithic fragments, baked clay fragments, faunal remains, and plant matter; 29 lots of shell beads; 7 lots of lithic fragments; 7 lots of shell ornaments and fragments; 4 lots of fish spears and fragments; 2 lots of baked clay fragments; 2 lots of olivella shells; 2 stone pestles; 1 lot of polished bone fragments; 1 bone awl; 1 bone hair pin; and 1 bone harpoon.

Determinations Made by the Phoebe A. Hearst Museum of Anthropology

Officials of the Phoebe A. Hearst Museum of Anthropology have determined that:

• Pursuant to 25 U.S.C. 3001(9), the human remains described in this notice are Native American based on geographical, biological, archeological, linguistic, folklore, oral tradition, and anthropological evidence.

• Pursuant to 25 U.S.C. 3001(9), the human remains described in this notice represent 36 sets of physical human remains of Native American ancestry.

• Pursuant to 25 U.S.C. 3001(3)(A), the 106 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• Treaties, Acts of Congress, Executive Orders, evidence submitted via consultation, and anthropological sources indicate that the land from which the Native American human remains and associated funerary objects were removed is the aboriginal land of the Buena Vista Rancheria of Me-Wuk Indians of California; California Valley Miwok Tribe, California; Cher-Ae Heights Indian Community of the Trinidad Rancheria, California; Chicken Ranch Rancheria of Me-Wuk Indians of California; Federated Indians of Graton Rancheria, California; Ione Band of Miwok Indians of California; Jackson Band of Miwuk Indians (previously listed as the Jackson Rancheria of Me-Wuk Indians of California); Middletown Rancheria of Pomo Indians of California; Picayune Rancheria of Chukchansi Indians of California; Santa Rosa Indian Community of the Santa Rosa Rancheria, California; Shingle Springs Band of Miwok Indians, Shingle Springs Rancheria (Verona Tract), California; Table Mountain Rancheria of California; Tule River Indian Tribe of the Tule River Reservation, California; Tuolumne Band of Me-Wuk Indians of the Tuolumne Rancheria of California; United Auburn Indian Community of the Auburn Rancheria of California; and Wilton Rancheria, California.

• Pursuant to 43 CFR 10.11(c)(1), the disposition of the human remains may be to the Buena Vista Rancheria of Me-Wuk Indians of California; California Valley Miwok Tribe, California; Cher-Ae Heights Indian Community of the Trinidad Rancheria, California; Chicken Ranch Rancheria of Me-Wuk Indians of California; Federated Indians of Graton Rancheria, California; Ione Band of Miwok Indians of California; Jackson Band of Miwuk Indians (previously listed as the Jackson Rancheria of Me-Wuk Indians of California); Middletown Rancheria of Pomo Indians of California; Picayune Rancheria of Chukchansi Indians of California; Santa Rosa Indian Community of the Santa Rosa Rancheria, California; Shingle Springs Band of Miwok Indians, Shingle Springs Rancheria (Verona Tract), California; Table Mountain Rancheria of California; Tule River Indian Tribe of the Tule River Reservation, California; Tuolumne Band of Me-Wuk Indians of the Tuolumne Rancheria of California; United Auburn Indian Community of the Auburn Rancheria of California; and Wilton Rancheria, California.

Additional Requestors and Disposition

Representatives of any Indian tribe or Native Hawaiian organization not identified in this notice that wish to request transfer of control of these human remains should submit a written request with information in support of the request to Jordan Jacobs, Phoebe A. Hearst Museum of Anthropology, 103 Kroeber Hall, University of California, Berkeley, Berkeley, CA 94720-3712, telephone (510) 643-8230, email PAHMA-Repatriation@berkeley.edu, by December 9, 2016. After that date, if no additional requestors have come forward, transfer of control of the human remains to the Buena Vista Rancheria of Me-Wuk Indians of California; California Valley Miwok Tribe, California; Cher-Ae Heights Indian Community of the Trinidad Rancheria, California; Chicken Ranch Rancheria of Me-Wuk Indians of California; Federated Indians of Graton Rancheria, California; Ione Band of Miwok Indians of California; Jackson Band of Miwuk Indians (previously listed as the Jackson Rancheria of Me-Wuk Indians of California); Middletown Rancheria of Pomo Indians of California; Picayune Rancheria of Chukchansi Indians of California; Santa Rosa Indian Community of the Santa Rosa Rancheria, California; Shingle Springs Band of Miwok Indians, Shingle Springs Rancheria (Verona Tract), California; Table Mountain Rancheria of California; Tule River Indian Tribe of the Tule River Reservation, California; Tuolumne Band of Me-Wuk Indians of the Tuolumne Rancheria of California; United Auburn Indian Community of the Auburn Rancheria of California; and Wilton Rancheria, California, may proceed.

The University of California, Berkeley assumes responsibility for notifying the Buena Vista Rancheria of Me-Wuk Indians of California; California Valley Miwok Tribe, California; Cher-Ae Heights Indian Community of the Trinidad Rancheria, California; Chicken Ranch Rancheria of Me-Wuk Indians of California; Federated Indians of Graton Rancheria, California; Ione Band of Miwok Indians of California; Jackson Band of Miwuk Indians (previously listed as the Jackson Rancheria of Me-Wuk Indians of California); Middletown Rancheria of Pomo Indians of California; Picayune Rancheria of Chukchansi Indians of California; Santa Rosa Indian Community of the Santa Rosa Rancheria, California; Shingle Springs Band of Miwok Indians, Shingle Springs Rancheria (Verona Tract), California; Table Mountain Rancheria of California; Tule River Indian Tribe of the Tule River Reservation, California; Tuolumne Band of Me-Wuk Indians of the Tuolumne Rancheria of California; United Auburn Indian Community of the Auburn Rancheria of California; and Wilton Rancheria, California, that this notice has been published.

Dated: October 18, 2016.
Melanie O'Brien,
Manager, National NAGPRA Program.

[FR Doc. 2016-26981 Filed 11-8-16; 8:45 am]

BILLING CODE 4312-52-P